DEPARTMENT OF ENERGY

Federal Energy Regulatory Commission

[Project No. 12588-010]

Hydraco Power, Inc.; Notice of Intent To Terminate Exemption (5 MW or Less) and Soliciting Comments, Protests, or Motions To Intervene

Take notice that the following hydroelectric proceeding has been initiated by the Commission:

a. Type of Proceeding: Notice of Intent to Terminate Exemption

b. Project No.: 12588-010

c. Date Initiated: August 7, 2014

d. Exemptee: Hydraco Power, Inc.

e. Name and Location of Project: The A.H. Smith Dam Hydroelectric Project is located on the San Marcos River near the town of Martindale, Caldwell County, Texas.

f. Exemptee Contact Information: Mr. Warren David Long, Owner, Hydraco Power, Inc., P.O. Box 280, 204 Main Street, Martindale, Texas, 78655, (512) 357-1456.

g. FERC Contact: Jennifer Polardino, (202) 502-6437, Jennifer.Polardino@ferc.gov

h. Deadline for filing comments, protests, or motions to intervene is 30 days from the issuance of this notice by the Commission. Please file your submittal electronically via the Internet (eFiling) in lieu of paper. Please refer to the instructions on the Commission's Web site under http://www.ferc.gov/docs-filing/efiling.asp and filing instructions in the Commission's Regulations at 18 CFR section 385.2001(a)(1)(iii). To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (P-12588-010) on any documents or motions filed. The Commission strongly encourages electronic filings; otherwise, you should submit an original and seven copies of any submittal to the following address: The Secretary, Federal Energy Regulatory Commission, Mail Code: DHAC, PJ-12, 888 First Street NE., Washington, DC 20426.

i. Description of Project Facilities: The project utilizes the existing facilities: (1) A 10.5-foot-high by 86.5-foot-long concrete dam; (2) a 3-foot-wide by 4-foot-high wooden stopgate positioned in the east bank of the dam which regulates flows to the turbine; (3) a 10.62-acre impoundment; (4) a powerhouse; (5) a 150-kW turbine-generator unit; (6) a trashrack with 2-inch bar spacing; and (9) appurtenant facilities. The exemptee stated that the rehabilitation of the project would consist of (1) repairs to the existing powerhouse; (2) refurbishment of the existing turbine and trashrack; (3) installation of a new 100-foot-long, 480-volt buried transmission line; and (4) installation of a water surface elevation gage in the headpond.

j. Description of Proceeding: The exemptee is in violation of Article 10 of its exemption, which was granted June 2, 2006 (115 FERC ¶ 62,250). Article 10 states, in pertinent part, that the Commission may revoke this exemption if actual construction of any proposed or required facility has not begun within two years (i.e., by June 1, 2008) or has not been completed within four years from the issuance date of the exemption (i.e., by June 1, 2010).

The exemptee's 2008 plan and schedule stated the project would be operational by June 2009. The exemptee has only recently completed minimal work to the project which includes: (a) Portage and safety signage as required by Article 15 of the exemption; (b) the installation of new trashracks; (d) exterior lighting for dam and spill way; and (c) installation of the underground portion of the transmission line. The transmission line is not connected to the powerhouse or power pole because it has not met the requirements for interconnection with the transmission grid. The construction on the powerhouse interior is currently at a standstill, which includes rebuilding the generating unit. The Commission has made repeated attempts requesting the exemptee to submit a plan and schedule to restore the project. To date, the exemptee has not filed a plan and schedule to complete project construction or to surrender the exemption. The exemptee's most recent filing on August 1, 2014 stated that it cannot provide a fixed time frame when the project would resume generation due to the indeterminable time frame of major component repairs. In the August 1, 2014 filing, the licensee stated that it would hopefully start generation within the next three years or sooner.

k. This notice is available for review and reproduction at the Commission in the Public Reference Room, Room 2A, 888 First Street NE., Washington, DC 20426. The filing may also be viewed on the Commission's Web site at http://www.ferc.gov/docs-filing/elibrary.asp. Enter the Docket number (P-12588-010) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

l. Comments, Protests, or Motions to Intervene: Anyone may submit comments, a protest, or a motion to intervene in accordance with the requirements of Rules of Practice and Procedure, 18 CFR 385.210, .211, .212, .214. In determining the appropriate action to take, the Commission will consider all protests or other comments filed, but only those who file a motion to intervene in accordance with the Commission's Rules may become a party to the proceeding. Any comments, protests, or motions to intervene must be received on or before the specified comment date for the particular proceeding.

m. Filing and Service of Responsive Documents—Any filing must (1) bear in all capital letters the title “COMMENTS, PROTEST,” or “MOTIONS TO INTERVENE,” as applicable; (2) set forth in the heading the project number of the proceeding to which the filing responds; (3) furnish the name, address, and telephone number of the person commenting, protesting, or intervening; and (4) otherwise comply with the requirements of 18 CFR 385.2001 through 385.2005. All comments or protests must set forth their evidentiary basis. All comments, protests, or motions to intervene should relate to project works which are the subject of the termination of exemption. A copy of any protest or motion to intervene must be served on each representative of the exemptee specified in item f above. A copy of all other filings in reference to this notice must be accompanied by proof of service on all persons listed in the service list prepared by the Commission in this proceeding in accordance with 18 CFR 4.34(b) and 385.2010.

n. Agency Comments—Federal, state, and local agencies are invited to file comments on the described proceeding. If any agency does not file comments within the time specified for filing comments, it will be presumed to have no comments.

Dated: August 7, 2014.
Kimberly D. Bose,
Secretary.

[FR Doc. 2014-19301 Filed 8-14-14; 8:45 am]

BILLING CODE 6717-01-P